DEPARTMENT OF ENERGY

Federal Energy Regulatory Commission

[Docket Nos. CP01-176-000 and CP01-179-000]

Georgia Strait Crossing Pipeline LP; Notice of Availability of the Final Environmental Impact Statement for the Proposed Georgia Strait Crossing Project

July 17, 2002.

The staff of the Federal Energy Regulatory Commission (FERC or Commission) has prepared a final environmental impact statement (EIS) on natural gas pipeline facilities proposed by Georgia Strait Crossing Pipeline LP (GSX-US) in the above-referenced dockets.

The final EIS was prepared to satisfy the requirements of the National Environmental Policy Act. The staff concludes that approval of the proposed project, with appropriate mitigating measures as recommended, would have limited adverse environmental impact. The final EIS also evaluates alternatives to the proposal, including system alternatives, route alternatives, and route variations.

The final EIS addresses the potential environmental effects of the construction and operation of the following facilities in Whatcom and San Juan Counties, Washington:

• about 32.0 miles of 20-inch-diameter pipeline (onshore mainline pipeline) extending from the interconnect facilities at the international border between the United States and Canada near Sumas, Washington, across Whatcom County, to a new compressor station (Cherry Point Compressor Station) near Cherry Point, Washington;

• about 1.1 miles of 16-inch-diameter pipeline (onshore mainline pipeline) extending from the Cherry Point Compressor Station to the beginning of the marine portion of the pipeline at the edge of the Strait of Georgia;

• about 13.9 miles of 16-inch-diameter marine pipeline (offshore mainline pipeline) extending from the edge of the Strait of Georgia near Cherry Point, Washington to the international border between the United States and Canada at a point about midway between the west end of Patos Island (Washington) and the east end of Saturna Island (British Columbia) in Boundary Pass;

• interconnect facilities including a receipt point meter station, pig launcher, interconnect piping, and associated valves (Sumas Interconnect Facility) adjacent to an existing compressor station in Whatcom County, Washington;

• a new compressor station (Cherry Point Compressor Station) consisting of one 10,302-hp two-stage compressor unit, pig launcher/receiver facilities, and associated valves near Cherry Point in Whatcom County, Washington;

• six mainline valves (MLV), one each at the Sumas Interconnect Facility and Cherry Point Compressor Station and four valves along the proposed pipeline route; and

• an onshore and an offshore tap valve.

The purpose of the GSX-US project is to provide the United States portion of a natural gas transportation system to supply the growing demand for natural gas on Vancouver Island.

The final EIS will be used in the regulatory decision-making process at the FERC. While the period for filing interventions in this case has expired, motions to intervene out-of-time can be filed with the FERC in accordance with the Commission's Rules and Practices and Procedures, 18 CFR 385.214(d). Further, anyone desiring to file a protest with the FERC should do so in accordance with 18 CFR 385.211.

The final EIS has been placed in the public files of the FERC and is available for public inspection at: Federal Regulatory Energy Commission, Public Reference and Files Maintenance Branch, 888 First Street, NE., Room 2A, Washington, DC 20426, (202) 208-1371.

A limited number of copies of the final EIS are available from the Public Reference and Files Maintenance Branch identified above. In addition, the final EIS was filed with the U.S. Environmental Protection Agency, and has been mailed to Federal, state, and local agencies, elected officials, public interest groups, individuals, and affected landowners who requested a copy of the final EIS; public libraries; newspapers; and parties to this proceeding.

In accordance with the Council on Environmental Quality's (CEQ) regulations implementing the National Environmental Policy Act, no agency decision on a proposed action may be made until 30 days after the U.S. Environmental Protection Agency publishes a notice of availability of an FEIS. However, the CEQ regulations provide an exception to this rule when an agency decision is subject to a formal internal appeal process which allows other agencies or the public to make their views known. In such cases, the agency decision may be made at the same time the notice of the FEIS is published, allowing both periods to run concurrently. The Commission decision for this proposed action is subject to a 30-day rehearing period.

Additional information about the proposed project is available from the Commission's Office of External Affairs at 1-866-208-FERC (1-866-208-3372) or on the FERC Web site (www.ferc.gov) using the “RIMS” link to information in the docket numbers. Click on the “RIMS” link, select “Docket #” from the RIMS menu, and follow the instructions. For assistance with access to RIMS, the RIMS helpline can be reached at (202) 208-2222.

Similarly, the “CIPS” link on the FERC Internet website provides access to the texts of formal documents issued by the Commission, such as orders, notices, and rulemakings. From the FERC Internet Web site, click on the “CIPS” link, select “DOCKET #” from the CIPS menu, and follow the instructions. For assistance with access to CIPS, the CIPS helpline can be reached at (202) 208-2222.

Linwood A. Watson, Jr.,
Deputy Secretary.

[FR Doc. 02-18534 Filed 7-22-02; 8:45 am]

BILLING CODE 6717-01-P